FEDERAL COMMUNICATIONS COMMISSION

Radio Broadcasting Services; AM or FM Proposals To Change the Community of License

AGENCY: Federal Communications Commission.

ACTION: Notice.

SUMMARY: The following applicants filed AM or FM proposals to change the community of license: Bowen Broadcasting, Inc., Station NEW, Facility ID 198781, BNPH-20150910ABY, From Bastrop, LA, To Calhoun, LA; Bridgelight, LLC, Station WJUX, Facility ID 43653, BPED-20150923ALI, From Monticello, NY, To South Fallsburg, NY; Catholic Radio Network, Inc., Station KQOH, Facility ID 76946, BPED-20150810AED, From Marshfield, MO, To Fair Grove, MO; Colt Communications, LLC, Station WNTN, Facility ID 48781, BP-20150730ACM, From Newton, MA, To Cambridge, MA; Contemporary Communications, LLC, Station NEW, Facility ID 198749, BNPH-20150928AAY, From Dermott, AR, To Moorhead, MS; De La Hunt, Edward Paul, Station KKWZ, Facility ID 165964, BPH-20151001AFK, From Crary, ND, To Rugby, ND; Flinn Broadcasting Corporation, Station KWLR, Facility ID 23849, BPH-20150804ABN, From Maumelle, AR, To Bigelow, AR; Genesis Communications Of Tampa Bay, Inc., Station WHBO, Facility ID 41383, BP-20150820ABA, From Pinellas Park, FL, To Largo, FL; Grundy County Broadcasters, Inc., Station WCSJ, Facility ID 17039, BP-20150828ABM, From Morris, IL, To Geneva, IL; Point Five, LLC, Station NEW, Facility ID 191522, BMPH-20150507ACA, From Barstow, CA, To Hinkley, CA; River Rat Radio, LLC., Station NEW, Facility ID 198737, BNPH-20150911AHR, From Quartzsite, AZ, To Parker Strip, AZ; Southeastern Oklahoma Radio, LLC, Station KTMC-FM, Facility ID 67592, BPH-20150831ABE, From Mcalester, OK, To Krebs, OK; Telesouth Communications, Inc., Station WTNM, Facility ID 51086, BPH-20150728ACE, From Oxford, MS, To Courtland, MS; Two Rivers Broadcasting, Inc., Station KQZZ, Facility ID 56710, BPH-20151001AFQ, From Devils Lake, ND, To Crary, ND; Walking By Faith Ministries, Inc., Station WAML, Facility ID 52617, BP-20150831ADB, From Laurel, MS, To Collins, MS.

DATES: The agency must receive comments on or before December 21, 2015.

ADDRESSES: Federal Communications Commission, 445 Twelfth Street SW., Washington, DC 20554.

FOR FURTHER INFORMATION CONTACT: Tung Bui, 202-418-2700.

SUPPLEMENTARY INFORMATION: The full text of these applications is available for inspection and copying during normal business hours in the Commission's Reference Center, 445 12th Street SW., Washington, DC 20554 or electronically via the Media Bureau's Consolidated Data Base System, http://licensing.fcc.gov/prod/cdbs/pubacc/prod/cdbs_pa.htm.

Federal Communications Commission.
James D. Bradshaw,
Deputy Chief, Audio Division, Media Bureau.

[FR Doc. 2015-26756 Filed 10-20-15; 8:45 am]

BILLING CODE 6712-01-P